FEDERAL ELECTION COMMISSION

Sunshine Act Notices

Date and Time: Tuesday, May 3, 2005 at 10 a.m.

Place: 999 E Street, NW., Washington, DC.

Status: This meeting will be closed to the public.

Items to be Discussed:

Compliance matters pursuant to 2 U.S.C. § 437(g).

Audits conducted pursuant to 2 U.S.C. § 437g, § 438(b), and Title 26, U.S.C.

Matters concerning participation in civil actions or proceedings or arbitration.

Internal personnel rules and procedures or matters affecting a particular employee.

Date and Time: Thursday, May 5, 2005, at 10 a.m.

Place: 999 E Street, NW., Washington, DC (Ninth floor).

Status: This meeting will be open to the public.

Items to be Discussed:

Correction and Approval of Minutes.

Advisory Opinion 2005-04: Representative John Boehner and Friends of John Boehner by counsel, Jan Witold Baran.

Routine Administrative Matters.

FOR FURTHER INFORMATION CONTACT: Mr. Robert Biersack, Press Officer, Telephone: (202) 694-1220.

Mary W. Dove,
Secretary of the Commission.

[FR Doc. 05-8582 Filed 4-26-05; 11:18 am]

BILLING CODE 6715-01-M